DEPARTMENT OF TRANSPORTATION

Federal Aviation Administration

14 CFR Part 39

[Docket No. FAA-2007-0190; Directorate Identifier 2007-NM-234-AD; Amendment 39-15259; AD 2007-23-13]

RIN 2120-AA64

Airworthiness Directives; Cessna Model 560 Airplanes

AGENCY: Federal Aviation Administration (FAA), Department of Transportation (DOT).

ACTION: Final rule; request for comments.

SUMMARY: The FAA is adopting a new airworthiness directive (AD) for certain Cessna Model 560 airplanes. This AD requires installing new minimum airspeed placards to notify the flightcrew of the proper airspeeds for operating in both normal and icing conditions. This AD also requires revising the airplane flight manual to provide limitations and procedures for operating in icing conditions, for operating with anti-ice systems selected “on” independent of icing conditions, and for recognizing and recovering from inadvertent stall. This AD also provides an optional terminating action for the placard installation. This AD results from an evaluation of in-service airplanes following an accident. The evaluation indicated that some airplanes may have an improperly adjusted stall warning system. We are issuing this AD to prevent an inadvertent stall due to the inadequate stall warning margin provided by an improperly adjusted stall warning system, which could result in loss of controllability of the airplane.

DATES: This AD becomes effective November 30, 2007.

The Director of the Federal Register approved the incorporation by reference of certain publications listed in the AD as of November 30, 2007.

We must receive comments on this AD by January 14, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Cessna Aircraft Co., P.O. Box 7706, Wichita, Kansas 67277.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Bob Busto, Aerospace Engineer, Systems and Propulsion Branch, ACE-116W, FAA, Wichita Aircraft Certification Office, 1801 Airport Road, Room 100, Mid-Continent Airport, Wichita, Kansas 67209; telephone (316) 946-4157; fax (316) 946-4107.

SUPPLEMENTARY INFORMATION:

Discussion

We have evaluated five in-service airplanes to examine the settings for the angle-of-attack (AOA)/stall warning system, following an accident that occurred on a Cessna Model 560 (Citation V) airplane during an instrument landing approach in icing conditions. The evaluation indicated that some airplanes may have an improperly adjusted stall warning system. All five of the airplanes exhibited an out-of-tolerance condition with respect to the margin between the stall warning and pre-stall roll-off. On two of the airplanes, the stall warning system provided an inadequate airspeed margin between the stall warning and stall. An inadvertent stall due to the inadequate stall warning margin provided by an improperly adjusted stall warning system, if not corrected, could result in loss of controllability of the airplane.

Relevant Service Information

Cessna has issued temporary changes (TCs) to the Cessna Model 560 Citation Ultra Airplane Flight Manual (AFM), as identified in the “Cessna Model 560 (Citation Ultra) TCs” table.

Cessna Model 560 (Citation Ultra) TCs
Airplanes | TC | Date
Cessna Model 560 (Citation Ultra) airplanes, serial numbers (S/Ns) 560-0260 through -0538 inclusive | 56FMA TC-R11-16 56FMA TC-R11-17 56FMA TC-R11-19 56FMA TC-R11-20 | August 31, 2007. August 31, 2007. August 31, 2007. August 31, 2007.
| 56FMA TC-R11-21 | August 31, 2007.
| 56FMA TC-R11-23 | October 2, 2007.
| 56FMA TC-R11-24 | October 2, 2007.
| 56FMA TC-R11-25 | October 2, 2007.
| 56FMA TC-R11-26 | October 2, 2007.
| 56FMA TC-R11-27 | October 2, 2007.
| 56FMA TC-R11-28 | October 2, 2007.
| 56FMA TC-R11-29 | October 2, 2007.
| 56FMA TC-R11-30 | October 2, 2007.

Cessna has also issued TCs to the Cessna Model 560 Citation V AFM, as identified in the “Cessna Model 560 (Citation V) TCs” table.

Cessna Model 560 (Citation V) TCs
Airplanes | TC | Date
Cessna Model 560 (Citation V) airplanes, S/Ns 560-0001 through -0259 inclusive | 560FM TC-R13-08 560FM TC-R13-09 560FM TC-R13-10 | August 31, 2007. August 31, 2007. August 31, 2007.
| 560FM TC-R13-12 | August 31, 2007.
| 560FM TC-R13-13 | August 31, 2007.
| 560FM TC-R13-14 | October 2, 2007.
| 560FM TC-R13-15 | October 2, 2007.
| 560FM TC-R13-16 | October 2, 2007.
| 560FM TC-R13-17 | October 2, 2007.
| 560FM TC-R13-18 | October 2, 2007.
| 560FM TC-R13-19 | October 2, 2007.
| 560FM TC-R13-20 | October 2, 2007.

TCs 56FMA TC-R11-16, 56FMA TC-R11-20, 560FM TC-R13-08, and 560FM TC-R13-09 provide procedures for exterior inspection of the wings. TCs 56FMA TC-R11-17 and 560FM TC-R13-10 provide procedures for the surface deice system. TCs 56FMA TC-R11-19 and 560FM TC-R13-12 provide emergency procedures for an inadvertent stall (buffet/roll-off). TCs 56FMA TC-R11-21 and 560FM TC-R13-13 provide procedures for safe flight under icing conditions. TCs 56FMA TC-R11-23, 56FMA TC-R11-24, 56FMA TC-R11-25, 56FMA TC-R11-26, 560FM TC-R13-14, 560FM TC-R13-15, 560FM TC-R13-16, and 560FM TC-R13-17 provide procedures for determining approach and landing data. TCs 56FMA TC-R11-27 and 560FM TC-R13-18 provide operational limitations for minimum airspeeds in normal and icing conditions. TCs 56FMA TC-R11-28, 56FMA TC-R11-29, 56FMA TC-R11-30, 560FM TC-R13-19, and 560FM TC-R13-20 provide procedures for determining landing speed and distance factors with residual ice or anti-ice systems selected “on” independent of icing conditions.

We have reviewed Cessna Service Bulletin SB560-34-143, dated September 7, 2007, including Attachment and Service Bulletin Supplemental Data. The service bulletin describes procedures for installing new minimum airspeed placards to notify the flightcrew of the proper airspeeds for operating in normal and icing conditions. The service bulletin also describes procedures for incorporating certain TCs into the AFM and sending a maintenance transaction report to the manufacturer.

We have also reviewed Cessna Alert Service Letters ASL560-34-34 (for airplanes equipped with a single AOA system) and ASL560-34-35 (for airplanes equipped with a dual AOA system), both Revision 1, both dated October 2, 2007, both including Attachments. The service letters describe procedures for doing a functional test of the AOA system, which involves determining whether the calibration of the AOA system is correct and adjusting the calibration settings if necessary. The service letters also describe procedures for removing the temporary airspeed placard installed in accordance with Cessna Service Bulletin SB560-34-143 and submitting the AOA system test data sheet and a maintenance transaction report to the manufacturer.

Accomplishing the actions specified in the service information is intended to adequately address the unsafe condition.

FAA's Determination and Requirements of This AD

The unsafe condition described previously is likely to exist or develop on other airplanes of the same type design. For this reason, we are issuing this AD to prevent an inadvertent stall due to the inadequate stall warning margin provided by an improperly adjusted stall warning system, which could result in loss of controllability of the airplane. This AD requires accomplishing the actions specified in the service information described previously, except as discussed under “Difference between the AD and Service Information.”

Difference Between the AD and Service Information

Although the Accomplishment Instructions of Cessna Service Bulletin SB560-34-143 and Cessna Alert Service Letters ASL560-34-34 and ASL560-34-35 describe procedures for submitting a maintenance transaction report to the manufacturer, this AD does not require that action. However, if operators accomplish the functional test as specified in Cessna Alert Service Letters ASL560-34-34 and ASL560-34-35, this AD requires submitting the AOA system test data sheet to the manufacturer.

Interim Action

We consider this AD interim action. We are currently considering requiring a functional test of the AOA system to adjust the calibration settings of the AOA system, which, in addition to the AFM revisions, would constitute terminating action for the placard installation required by this AD. However, the planned compliance time for the functional test would allow enough time to provide notice and opportunity for prior public comment on the merits of the functional test.

FAA's Determination of the Effective Date

Since an unsafe condition exists that requires the immediate adoption of this AD, we have found that notice and opportunity for public comment before issuing this AD are impracticable, and that good cause exists to make this AD effective in less than 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2007-0190; Directorate Identifier 2007-NM-234-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-23-13 Cessna Aircraft Company: Amendment 39-15259. Docket No. FAA-2007-0190; Directorate Identifier 2007-NM-234-AD.

Effective Date

(a) This AD becomes effective November 30, 2007.

Affected ADs

(b) None.

Applicability

(c) This AD applies to Cessna Model 560 airplanes, certificated in any category, serial numbers (S/Ns) 560-0001 through -0538 inclusive.

Unsafe Condition

(d) This AD results from an evaluation of in-service airplanes following an accident. The evaluation indicated that some airplanes may have an improperly adjusted stall warning system. We are issuing this AD to prevent an inadvertent stall due to the inadequate stall warning margin provided by an improperly adjusted stall warning system, which could result in loss of controllability of the airplane.

Compliance

(e) You are responsible for having the actions required by this AD performed within the compliance times specified, unless the actions have already been done.

Airplane Flight Manual (AFM) Revision

(f) Within 14 days after the effective date of this AD, revise the Operating Limitations, Normal Procedures, Emergency Procedures, and the Approach and Landing sections of the AFM to include the information in the temporary changes (TCs) identified in Table 1 of this AD, as applicable. These TCs provide limitations and procedures for operating in icing conditions, for operating with anti-ice systems selected “on” independent of icing conditions, and for recognizing and recovering from inadvertent stall. Operate the airplane according to the limitations and procedures in the applicable TCs.

Note 1: This may be done by inserting a copy of the applicable TCs into the applicable AFM. When these TCs have been included in the general revisions of the AFM, the general revisions may be inserted into the AFM, provided the relevant information in the general revision is identical to that in the applicable TCs.

Table 1.—Cessna Model 560 TCs
Airplanes | Applicable TC
Model 560 airplanes, S/Ns 560-0001 through -0259 inclusive | 560FM TC-R13-08, dated August 31, 2007, to the Cessna Model 560 Citation V AFM. 560FM TC-R13-09, dated August 31, 2007, to the Cessna Model 560 Citation V AFM. 560FM TC-R13-10, dated August 31, 2007, to the Cessna Model 560 Citation V AFM.
| 560FM TC-R13-12, dated August 31, 2007, to the Cessna Model 560 Citation V AFM.
| 560FM TC-R13-13, dated August 31, 2007, to the Cessna Model 560 Citation V AFM.
| 560FM TC-R13-14, dated October 2, 2007, to the Cessna Model 560 Citation V AFM.
| 560FM TC-R13-15, dated October 2, 2007, to the Cessna Model 560 Citation V AFM.
| 560FM TC-R13-16, dated October 2, 2007, to the Cessna Model 560 Citation V AFM.
| 560FM TC-R13-17, dated October 2, 2007, to the Cessna Model 560 Citation V AFM.
| 560FM TC-R13-18, dated October 2, 2007, to the Cessna Model 560 Citation V AFM.
| 560FM TC-R13-19, dated October 2, 2007, to the Cessna Model 560 Citation V AFM.
| 560FM TC-R13-20, dated October 2, 2007, to the Cessna Model 560 Citation V AFM.
Model 560 airplanes, S/Ns 560-0260 through -0538 inclusive | 56FMA TC-R11-16, dated August 31, 2007, to the Cessna Model 560 Citation Ultra AFM. 56FMA TC-R11-17, dated August 31, 2007, to the Cessna Model 560 Citation Ultra AFM. 56FMA TC-R11-19, dated August 31, 2007, to the Cessna Model 560 Citation Ultra AFM. 56FMA TC-R11-20, dated August 31, 2007, to the Cessna Model 560 Citation Ultra AFM.
| 56FMA TC-R11-21, dated August 31, 2007, to the Cessna Model 560 Citation Ultra AFM.
| 56FMA TC-R11-23, dated October 2, 2007, to the Cessna Model 560 Citation Ultra AFM.
| 56FMA TC-R11-24, dated October 2, 2007, to the Cessna Model 560 Citation Ultra AFM.
| 56FMA TC-R11-25, dated October 2, 2007, to the Cessna Model 560 Citation Ultra AFM.
| 56FMA TC-R11-26, dated October 2, 2007, to the Cessna Model 560 Citation Ultra AFM.
| 56FMA TC-R11-27, dated October 2, 2007, to the Cessna Model 560 Citation Ultra AFM.
| 56FMA TC-R11-28, dated October 2, 2007, to the Cessna Model 560 Citation Ultra AFM.
| 56FMA TC-R11-29, dated October 2, 2007, to the Cessna Model 560 Citation Ultra AFM.
| 56FMA TC-R11-30, dated October 2, 2007, to the Cessna Model 560 Citation Ultra AFM.

Placard Installation

(g) Within 30 days after the effective date of this AD, install new minimum airspeed placards to notify the flightcrew of the proper airspeeds for operating in normal and icing conditions, in accordance with the Accomplishment Instructions of Cessna Service Bulletin SB560-34-143, dated September 7, 2007, including Attachment and Service Bulletin Supplemental Data. The placards must be installed above or near the pilot and copilot attitude indicators or primary flight displays and must be in clear view of the pilot and copilot. The placards may be removed when the actions specified in paragraphs (h) and (i) of this AD have been accomplished.

Optional Terminating Action

(h) Doing the functional test of the AOA system and adjusting the calibration settings of the AOA system as applicable, in accordance with Cessna Alert Service Letter ASL560-34-34 (for airplanes equipped with a single AOA system) or ASL560-34-35 (for airplanes equipped with a dual AOA system), both Revision 1, both dated October 2, 2007, both including Attachments, as applicable, and submitting the AOA system test data as specified in paragraph (i) of this AD, terminates the placard installation required by paragraph (g) of this AD.

Reporting AOA System Test Data

(i) Submit the AOA system test data report for the functional test specified in paragraph (h) of this AD to Glenn Todd, Citation Customer Support Engineer, Department 572, P.O. Box 7706, Wichita, KS 67277-7706, e-mail: gatodd@cessna.textron.com, fax: 1-316-517-8500 or 1-316-206-2337, at the applicable time specified in paragraph (i)(1) or (i)(2) of this AD. The report must include the AOA test data, the airplane serial number and registration number, and the number of landings and flight hours on the airplane. Under the provisions of the Paperwork Reduction Act (44 U.S.C. 3501 et seq.), the Office of Management and Budget (OMB) has approved the information collection requirements contained in this AD and has assigned OMB Control Number 2120-0056.

(1) If the functional test was done after the effective date of this AD: Submit the report within 30 days after the functional test.

(2) If the inspection was accomplished prior to the effective date of this AD: Submit the report within 30 days after the effective date of this AD.

No Maintenance Transaction Report Required

(j) Although Cessna Service Bulletin SB560-34-143, dated September 7, 2007, including Attachment and Service Bulletin Supplemental Data, referred to in paragraph (g) of this AD; and Cessna Alert Service Letters ASL560-34-34 and ASL560-34-35, both Revision 1, both dated October 2, 2007, both including Attachments, referred to in paragraph (h) of this AD; specify to submit a maintenance transaction report to the manufacturer, this AD does not include that requirement.

Alternative Methods of Compliance (AMOCs)

(k)(1) The Manager, Wichita Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(l) You must use the service information identified in Table 2 of this AD to perform the actions that are required by this AD, unless the AD specifies otherwise. If you accomplish the optional actions specified in this AD, you must use Cessna Alert Service Letter ASL560-34-34, Revision 1, dated October 2, 2007, including Attachments; or Cessna Alert Service Letter ASL560-34-35, Revision 1, dated October 2, 2007, including Attachments; as applicable; unless the AD specifies otherwise. The Director of the Federal Register approved the incorporation by reference of these documents in accordance with 5 U.S.C. 552(a) and 1 CFR part 51. Contact Cessna Aircraft Co., P.O. Box 7706, Wichita, Kansas 67277, for a copy of this service information. You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Table 2.—Material Incorporated by Reference
Service information | Date
Cessna Service Bulletin SB560-34-143, including Attachment and Service Bulletin Supplemental Data | September 7, 2007.
Cessna Temporary Change 56FMA TC-R11-16 to the Cessna Model 560 Citation Ultra Airplane Flight Manual | August 31, 2007.
Cessna Temporary Change 56FMA TC-R11-17 to the Cessna Model 560 Citation Ultra Airplane Flight Manual | August 31, 2007.
Cessna Temporary Change 56FMA TC-R11-19 to the Cessna Model 560 Citation Ultra Airplane Flight Manual | August 31, 2007.
Cessna Temporary Change 56FMA TC-R11-20 to the Cessna Model 560 Citation Ultra Airplane Flight Manual | August 31, 2007.
Cessna Temporary Change 56FMA TC-R11-21 to the Cessna Model 560 Citation Ultra Airplane Flight Manual | August 31, 2007.
Cessna Temporary Change 56FMA TC-R11-23 to the Cessna Model 560 Citation Ultra Airplane Flight Manual | October 2, 2007.
Cessna Temporary Change 56FMA TC-R11-24 to the Cessna Model 560 Citation Ultra Airplane Flight Manual | October 2, 2007.
Cessna Temporary Change 56FMA TC-R11-25 to the Cessna Model 560 Citation Ultra Airplane Flight Manual | October 2, 2007.
Cessna Temporary Change 56FMA TC-R11-26 to the Cessna Model 560 Citation Ultra Airplane Flight Manual | October 2, 2007.
Cessna Temporary Change 56FMA TC-R11-27 to the Cessna Model 560 Citation Ultra Airplane Flight Manual | October 2, 2007.
Cessna Temporary Change 56FMA TC-R11-28 to the Cessna Model 560 Citation Ultra Airplane Flight Manual | October 2, 2007.
Cessna Temporary Change 56FMA TC-R11-29 to the Cessna Model 560 Citation Ultra Airplane Flight Manual | October 2, 2007.
Cessna Temporary Change 56FMA TC-R11-30 to the Cessna Model 560 Citation Ultra Airplane Flight Manual | October 2, 2007.
Cessna Temporary Change 560FM TC-R13-08 to the Cessna Model 560 Citation V Airplane Flight Manual | August 31, 2007.
Cessna Temporary Change 560FM TC-R13-09 to the Cessna Model 560 Citation V Airplane Flight Manual | August 31, 2007.
Cessna Temporary Change 560FM TC-R13-10 to the Cessna Model 560 Citation V Airplane Flight Manual | August 31, 2007.
Cessna Temporary Change 560FM TC-R13-12 to the Cessna Model 560 Citation V Airplane Flight Manual | August 31, 2007.
Cessna Temporary Change 560FM TC-R13-13 to the Cessna Model 560 Citation V Airplane Flight Manual | August 31, 2007.
Cessna Temporary Change 560FM TC-R13-14 to the Cessna Model 560 Citation V Airplane Flight Manual | October 2, 2007.
Cessna Temporary Change 560FM TC-R13-15 to the Cessna Model 560 Citation V Airplane Flight Manual | October 2, 2007.
Cessna Temporary Change 560FM TC-R13-16 to the Cessna Model 560 Citation V Airplane Flight Manual | October 2, 2007.
Cessna Temporary Change 560FM TC-R13-17 to the Cessna Model 560 Citation V Airplane Flight Manual | October 2, 2007.
Cessna Temporary Change 560FM TC-R13-18 to the Cessna Model 560 Citation V Airplane Flight Manual | October 2, 2007.
Cessna Temporary Change 560FM TC-R13-19 to the Cessna Model 560 Citation V Airplane Flight Manual | October 2, 2007.
Cessna Temporary Change 560FM TC-R13-20 to the Cessna Model 560 Citation V Airplane Flight Manual | October 2, 2007.

Issued in Renton, Washington, on November 5, 2007.
Ali Bahrami,
Manager, Transport Airplane Directorate, Aircraft Certification Service.

[FR Doc. E7-22179 Filed 11-14-07; 8:45 am]

BILLING CODE 4910-13-P